SMALL BUSINESS ADMINISTRATION

13 CFR Part 123

RIN 3245-AF46

Disaster Relief to Small Business Concerns Damaged by Drought

AGENCY: Small Business Administration (SBA).

ACTION: Interim final rule: Notice of reopening of the comment period.

SUMMARY: On December 15, 2006 SBA published in the Federal Register an interim final rule on disaster relief to small business concerns damaged by drought (71 FR 75407). This interim final rule made revisions to the SBA economic injury disaster loans available to small businesses that have been adversely affected by drought, or by below average water levels in any body of water that supports commerce by small business concerns. The original comment period was from December 15, 2006 through January 16, 2007. SBA is reopening the comment period until March 9, 2007 because SBA believes that affected parties need more time to adequately respond.

DATES: The comment period for the interim final rule published on December 15, 2006 (71 FR 75407) is reopened through March 9, 2007.

ADDRESSES: You may submit comments, identified by RIN 3245-AF46, by any of the following methods: (1) Federal Rulemaking Portal: http://www.regulations.gov, following the specific instructions for submitting comments; (2) FAX (202) 481-2226; (3) E-mail: Herbert.Mitchell@sba.gov; or (4) Mail/Hand Delivery/Courier: Herbert L. Mitchell, Associate Administrator for Disaster Assistance, 409 3rd Street, SW., Washington, DC 20416.

Dated: February 1, 2007.
Herbert L. Mitchell,
Associate Administrator/Disaster Assistance.

[FR Doc. E7-1972 Filed 2-6-07; 8:45 am]

BILLING CODE 8025-01-P